DEPARTMENT OF THE INTERIOR

Geological Survey

Patent, Trademark & Copyright Acts

AGENCY: U.S. Geological Survey, Interior.

ACTION: Notice of Prospective Intent to Award Exclusive License.

SUMMARY: The United States Geological Survey (USGS) is contemplating awarding an exclusive license to: Geosyntec Consultants, 1255 Roberts Boulevard NW., Suite 200, Kennesaw, GA 30144, on U.S. Patent Application Serial No. 12/133,666, and a divisional patent application to be filed shortly at the Patent and Trademark Office, both entitled “Anaerobic Microbial Composition and Methods of Using Same.”

Inquiries: If other parties are interested in similar activities, or have comments related to the prospective awards, please contact Neil Mark, USGS, 12201 Sunrise Valley Drive, MS 201, Reston, Virginia 20192, voice (703) 648-4344, fax (703) 648-7219, or email nmark@usgs.gov.

SUPPLEMENTARY INFORMATION: This notice is submitted to meet the requirements of 35 U.S.C. 208 et seq.

Dated: November 14, 2011.
Karen D. Baker,
Associate Director for Administration and Enterprise Information.

[FR Doc. 2011-29974 Filed 11-18-11; 8:45 am]

BILLING CODE 4311-AM-P